DEPARTMENT OF COMMERCE

Patent and Trademark Office

Agency Information Collection Activities; Submission to the Office of Management and Budget (OMB) for Review and Approval; Comment Request; Patents for Humanity Program

AGENCY: United States Patent and Trademark Office, Department of Commerce.

ACTION: Notice of information collection; request for comment.

SUMMARY: The United States Patent and Trademark Office (USPTO), as required by the Paperwork Reduction Act of 1995, invites comments on the extension and revision of an existing information collection: 0651-0066 (Patents for Humanity Program). The purpose of this notice is to allow 60 days for public comment preceding submission of the information collection to OMB.

DATES: To ensure consideration, comments regarding this information collection must be received on or before January 31, 2022.

ADDRESSES: Interested persons are invited to submit written comments by any of the following methods. Do not submit Confidential Business Information or otherwise sensitive or protected information.

• Email: InformationCollection@uspto.gov. Include “0651-0066 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Ms. Soma Saha, Patent Attorney, Office of Policy and International Affairs, United States Patent and Trademark Office, P.O. Box 1450, Alexandria, VA 22313-1450; by telephone at 571-272-9300; or by email to patentsforhumanity@uspto.gov with “0651-0066 comment” in the subject line. Additional information about this information collection is also available at http://www.reginfo.gov under “Information Collection Review.”

SUPPLEMENTARY INFORMATION:

I. Abstract

Since 2012, the United States Patent and Trademark Office (USPTO) has conducted the Patents for Humanity Program, an annual award program to incentivize the distribution of patented technologies or products for the purpose of addressing humanitarian needs. The program is open to any patent owners or patent licensees, including inventors who have not assigned their ownership rights to others, assignees, and exclusive or non-exclusive licenses. USPTO collects information from applicants that describe what actions they have taken with their patented technology to address the welfare of impoverished populations, or how they furthered research by others on technologies for humanitarian purposes. There are numerous categories of awards including: Medicine, Nutrition, Sanitation, Household Energy, and Living Standards. Sometimes the program includes additional categories specific for that year, for example COVID-19.

This information collection covers two application forms for the Patents for Humanity Program. The first application covers the humanitarian uses of technologies or products, and the second application covers humanitarian research. In both, applicants are required to describe how their technology or product satisfies the program criteria to address humanitarian issues. Additionally, applicants must provide non-public contact information in order for USPTO to notify them about their award status. Applicants may optionally provide contact information for the public to reach them with any inquiries. Applications must be submitted via email and will be posted on USPTO's website. Qualified judges from outside USPTO will review and score the applications. USPTO will then forward the top-scoring applications to reviewers from participating Federal agencies to recommend award recipients.

Winners are invited to participate in an awards ceremony at USPTO. Those applications that are chosen for an award will receive a certificate redeemable to accelerate select matters before USPTO. The certificates can be redeemed to accelerate one of the following matters: An ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. This information collection also covers the information gathered in petitions to extend an acceleration certificate redemption beyond 12 months. Finally, winners are now able to transfer their certificates to third parties, including by sale, due to the January 2021 passage of the Patents for Humanity Program Improvement Act.

II. Method of Collection

Electronically through the http://www.uspto.gov/patentsforhumanity website.

III. Data

OMB Control Number: 0651-0066.

Form Numbers:

• PTO/PFH/001 (Patents for Humanity Competition: Humanitarian Use Application)

• PTO/PFH/002 (Patents for Humanity Competition: Research Use Application)

• PTO/SB/431 (Patents for Humanity Competiton: Petition to Extend Redemption)

Type of Review: Extension and revision of a currently approved information collection.

Affected Public: Private sector; individuals or households; state, local, and tribal governments, and Federal government.

Estimated Number of Respondents: 115 respondents per year.

Estimated Number of Responses: 115 responses per year.

Estimated Time per Response: USPTO estimates that it will take the public approximately 30 minutes to 4 hours to complete the items associated with this program. These estimated times include gathering the necessary information, preparing the application and any supplemental materials, and submitting the completed documents to USPTO.

Estimated Total Annual Respondent Burden Hours: 428 hours.

Estimated Total Annual Respondent (Hourly) Cost Burden: $124,976.

Table 1—Burden Hour/Burden Cost to Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Humanitarian Program Application (Humanitarian Use) (PTO/PFH/001) (Private Sector Respondents) | 50 | 1 | 50 | 4 | 200 | $292 | $58,400
1 | Humanitarian Program Application (Humanitarian Use) (PTO/PFH/001) (Individuals or Households Respondents) | 20 | 1 | 20 | 4 | 80 | 292 | 23,360
1 | Humanitarian Program Application (Humanitarian Use) (PTO/PFH/001) (State, Local, and Tribal Governments Respondents) | 10 | 1 | 10 | 4 | 40 | 292 | 11,680
1 | Humanitarian Program Application (Humanitarian Use) (PTO/PFH/001) (Federal Government Respondents) | 5 | 1 | 5 | 4 | 20 | 292 | 5,840
2 | Humanitarian Program Application (Humanitarian Research) (PTO/PFH/002) (Private Sector Respondents) | 5 | 1 | 5 | 4 | 20 | 292 | 5,840
2 | Humanitarian Program Application (Humanitarian Research) (PTO/PFH/002) (Individuals or Households Respondents) | 5 | 1 | 5 | 4 | 20 | 292 | 5,840
2 | Humanitarian Program Application (Humanitarian Research) (PTO/PFH/002) (State, Local, and Tribal Governments Respondents) | 5 | 1 | 5 | 4 | 20 | 292 | 5,840
2 | Humanitarian Program Application (Humanitarian Research) (PTO/PFH/002) (Federal Government Respondents) | 5 | 1 | 5 | 4 | 20 | 292 | 5,840
3 | Petition to Extend the Redemption Period of the Humanitarian Awards Certificate (PTO/SB/431) (Private Sector Respondents) | 2 | 1 | 2 | 1 | 2 | 292 | 584
3 | Petition to Extend the Redemption Period of the Humanitarian Awards Certificate (PTO/SB/431) (Individuals or Households Respondents) | 2 | 1 | 2 | 1 | 2 | 292 | 584
3 | Petition to Extend the Redemption Period of the Humanitarian Awards Certificate (PTO/SB/431) (State, Local, and Tribal Governments Respondents) | 1 | 1 | 1 | 1 | 1 | 292 | 292
3 | Petition to Extend the Redemption Period of the Humanitarian Awards Certificate (PTO/SB/431) (Federal Government Respondents) | 1 | 1 | 1 | 1 | 1 | 292 | 292
4 | Transfer of Awards Certificate (Private Sector Respondents) | 2 | 1 | 2 | * 0.5 | 1 | 292 | 292
4 | Transfer of Awards Certificate (Individuals or Households Respondents) | 2 | 1 | 2 | * 0.5 | 1 | 292 | 292
| Total | 115 |  | 115 |  | 428 |  | 124,976
¹ The USPTO uses the combined rates for intellectual property attorneys and paralegas which is $292. 2021 (Report of the Economic Survey, published by the Committee on Economics of Legal Practice of the American Intellectual Property Law Association (AIPLA); https://www.aipla.org/detail/news/2021/09/22/the-2021-report-of-the-economic-survey-is-here, pg. F-27. The USPTO uses the average billing rate for intellectual property attorneys in private firms which is $435 per hour. 2020 Utilization and Compensation Survey by the National Association of Legal Assistants (NALA); https://nala.org/paralegal-info/, pg 10. The USPTO uses the average billing rate per hour which is $149.).
* 30 minutes.

Estimated Total Annual Respondent (Non-hourly) Cost Burden: $0. There are no capital startup costs, filing fees, recordkeeping costs, maintance costs, or postage costs associated with this information collection.

Respondent's Obligation: Voluntary.

Request for Comments

The USPTO is soliciting public comments to:

(a) Evaluate whether the collection of information is necessary for the proper performance of the functions of the Agency, including whether the information shall have practical utility;

(b) Evaluate the accuracy of the Agency's estimate of the burden of the collection of information, including the validity of the methodology and assumptions used;

(c) Enhance the quality, utility, and clarity of the information to be collected; and

(d) Minimize the burden of the collection on those who are to respond, including through the use of appropriate automated, electronic, mechanical, or other technological collection techniques or other forms of information technology, e.g., permitting electronic submission of responses.

All comments submitted in response to this notice are a matter of public record. USPTO will include or summarize each comment in the request to OMB to approve this information collection. Before including an address, telephone number, email address, or other personal identifying information (PII) in a comment, be aware that the entire comment—including PII—may be made publicly available at any time. While you may ask in your comment to withhold PII from public view, USPTO cannot guarantee that it will be able to do so.

Kimberly Hardy,
Information Collections Officer, Office of the Chief Administrative Officer, United States Patent and Trademark Office.

[FR Doc. 2021-25995 Filed 11-29-21; 8:45 am]

BILLING CODE 3510-16-P